DEPARTMENT OF DEFENSE

Defense Logistics Agency

Privacy Act of 1974; Systems of Records

AGENCY: Defense Logistics Agency.

ACTION: Notice to add a system of records.

SUMMARY: The Defense Logistics Agency proposes to add a system of records notice to its inventory of record systems subject to the Privacy Act of 1974 (5 U.S.C. 552a), as amended.

DATES: This action will be effective without further notice on September 23, 2004, unless comments are received that would result in a contrary determination.

ADDRESSES: Send comments to the Privacy Act Officer, Headquarters, Defense Logistics Agency, ATTN: DSS-B, 8725 John J. Kingman Roads, Stop 6220, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on August 13, 2004, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: August 18, 2004.
L.M. Bynum,
Alternate OSD Federal Register Liaison Officer, Department of Defense.

S330.10

System name:

Alternative Workplace Program Records.

System location:

Office of the Director, Human Resources, Headquarters, Defense Logistics Agency, 8725 John J. Kingman Road, Stop 6231, Fort Belvoir, VA 22060-6221, and heads of he DLA field activities. Official mailing addresses are published as an appendix to DLA's compilation of systems of records notices.

Categories of individuals covered by the system:

Individuals who participate in Flexiplace, Telework, or similar alternate worksite programs operated by DLA.

Categories of records in the system:

Records in the system include participant's name; position title and grade; performance evaluation; geographic and electronic work addresses and telephone numbers; alternative work site geographic and electronic addresses and telephone numbers; alternative worksite Internet service provider and service fees; alternative worksite local and long distance service providers and associated costs; government equipment descriptions and serial and barcode numbers; telework request forms, approvals/disapprovals, and agreement documents; and home safety checklists and home safety reports. The files may also contain descriptions of computer systems and software in use.

Authority for maintenance of the system:

5 U.S.C. 6120, Telecommuting in Executive Agencies; 10 U.S.C. 136, Under Secretary of Defense for Personnel and Readiness; Public Law 106-346 § 359, Department of Transportation Appropriation Act (Telecommuting); Public Law 104-52 (amending 31 U.S.C. 1348) (Telephone Installation and Charges); and Presidential Executive Memorandum data July 26, 2000, “Employing People with Significant Disabilities to Fill Federal Agency Jobs that can be Performed at Alternative Work Sites, Including the Home.”

Purpose(s):

Records are used by supervisors and program coordinators for managing, evaluating, and reporting DLA alternative worksite program activity.

Portions of the files may be used by Information Security offices for determining equipment and software needs; for ensuring appropriate technical safeguards are in use at alternative work sites; and for evaluating and mitigating vulnerabilities associated with connecting to DLA computer systems from remote locations. Portions of the records may also be used by telephone control offices to validate and reimburse participants for costs associated with telephone use.

Routine uses of records maintained in the system, including categories of users and the purposes of such uses:

In addition to those disclosures generally permitted under 5 U.S.C. 552a(b) of the Privacy Act, these records or information contained therein may specifically be disclosed outside the DOD as a routine use pursuant to 5 U.S.C. 552a(b)(3) as follows:

Home address, home safety checklists, and home safety reports may be disclosed to the Department of Labor when an employee is injured while working at home.

The DoD “Blanket Routine Uses” set forth at the beginning of DLA's compilation of systems of records notices apply to this system.

Policies and practices for storing, retrieving, accessing, retaining, and disposing of records in the system:

Storage:

Records are maintained in paper and electronic formats.

Retrievability:

Records are retrieved by name.

Safeguards:

Access to the database is limited to those who require the records in the performance of their official duties. Access is further restricted by the use of passwords, which are changed periodically. Physical entry is restricted by the use of locks, guards, and administrative procedures. Employees are periodically briefed on the consequences of improperly accessing restricted databases.

Retention and disposal:

Records are destroyed 1 year after employee's participation in the program ends. Unapproved requests are destroyed 1 year after the request is rejected.

System manager(s) and address:

Director, Human Resources, Headquarters, Defense Logistics Agency, 8725 John J. Kingman Road, Stop 6231, Fort Belvoir, VA 22060-6221; and the heads of DLA field activities. Official mailing addresses are published as an appendix to DLA's compilation of systems of records notices.

Notification procedures:

Individuals seeking to determine whether this system of records contains information about themselves should address written inquiries to the Privacy Act Officer, Defense Logistics Agency, ATTN: DSS-B, 8725 John J. Kingman Road, Stop 6220, Fort Belvoir, VA 22060-6221, or the Privacy Act Officer of the particular DLA activity where employed. Official mailing addresses are published as an appendix to DLA's compilation of systems of records notices.

Record access procedures:

Individuals seeking access to information about themselves contained in this system of records should address written inquiries to the Privacy Act Officer, Defense Logistics Agency, ATTN: DSS-B, 8725 John J. Kingman Road, Stop 6220, Fort Belvoir, VA 22060-6221, or the Privacy Act Officer of the particular DLA activity involved. Official mailing addresses are published as an appendix to DLA's compilation of systems of records notices.

Individuals must supply the name of the DLA facility or activity where employed at the time the papers were created or processed.

Contesting record procedures:

The DLA rules for accessing records, for contesting contents and appealing initial agency determinations are contained in 32 CFR part 323 or may be obtained from the Privacy Act Officer, Headquarters, Defense Logistics Agency, ATTN: DSS-B, 8725 John J. Kingman Road, Stop 6220, Fort Belvoir, VA 22060-6221.

Record source categories:

Data is supplied by participants, supervisors, and information technology officers.

Exemptions claimed for the system:

None.

[FR Doc. 04-19388 Filed 8-23-04; 8:45 am]

BILLING CODE 5001-06-M